DEPARTMENT OF TRANSPORTATION

Federal Aviation Administration

[Docket No.: FAA-2024-2627; Summary Notice No. 2025-16]

Petition for Exemption; Summary of Petition Received; ATL Europe.

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before April 8, 2025.

ADDRESSES: Send comments identified by docket number FAA-2024-2627 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington DC 20590-0001, between 9 a.m. and 5 p.m., Monday through Friday, except Federal holidays.

FOR FURTHER INFORMATION CONTACT: Kara White, Office of Rulemaking, Federal Aviation Administration, 800 Independence Avenue SW, Washington DC 20591.

This notice is published pursuant to 14 CFR 11.85.

Issued in Washington, DC.
Dan Ngo,
Manager, Part 11 Petitions Branch, Office of Rulemaking.

Petition for Exemption

Docket No.: FAA-2024-2627.

Petitioner: ATL Europe.

Section(s) of 14 CFR Affected: §§ 25.857(e) and 25.1447(c)(1).

Description of Relief Sought:

ATL Europe has requested an exemption from §§ 25.857(e) and 25.1447(c)(1) for a pallet mounted Crew Rest Module (CRM) installed in a Class E cargo compartment, aft of the 9G rigid cargo barrier. Relief from § 25.857(e) is sought to permit carriage of up to two authorized persons (previously known as supernumeraries) in the CRM, while installed in the Class E Cargo compartment, in flight. While the CRM is occupied, relief is sought from § 25.1447(c)(1) because the installation does not provide a manual means for the crew to deploy drop-down oxygen dispensing units.

[FR Doc. 2025-04547 Filed 3-18-25; 8:45 am]

BILLING CODE 4910-13-P